NUCLEAR REGULATORY COMMISSION

[Docket No. 030-34325]

Notice of Availability of Environmental Assessment and Finding of No Significant Impact for An Amendment to a Materials Permit in Accordance With Byproduct Materials License No. 03-23853-01VA, for Unrestricted Release of a Department of Veterans Affairs's Facility In West Haven, CT

AGENCY: Nuclear Regulatory Commission.

ACTION: Issuance of Environmental Assessment and Finding of No Significant Impact for License Amendment.

FOR FURTHER INFORMATION CONTACT: William Snell, Senior Health Physicist, Decommissioning Branch, Division of Nuclear Materials Safety, Region III, U.S. Nuclear Regulatory Commission, 2443 Warrenville Road, Lisle, Illinois 60532; telephone: (630) 829-9871; fax number: (630) 515-1259; or by e-mail at wgs@nrc.gov.

SUPPLEMENTARY INFORMATION:

I. Introduction

The U.S. Nuclear Regulatory Commission (NRC) is considering allowing an amendment to a materials permit in accordance with NRC Byproduct Materials License No. 03-23853-01VA issued to the Department of Veterans Affairs (DVA) (the licensee), to authorize release of its Connecticut Health Care System Building 27 in West Haven, Connecticut for unrestricted use. The NRC has prepared an Environmental Assessment (EA) in support of this proposed action in accordance with the requirements of Title 10, Code of Federal Regulations (CFR), Part 51 (10 CFR part 51). Based on the EA, the NRC has concluded that a Finding of No Significant Impact (FONSI) is appropriate. The approval for the amendment to the materials permit will be issued to the DVA following the publication of this Notice.

II. Environmental Assessment

Identification of Proposed Action

The proposed action would approve DVA's request to issue an amendment to a materials permit in accordance with NRC Byproduct Materials License No. 03-23853-01VA for the unrestricted release of Building 27 of the DVA's Connecticut Health Care System at 950 Campbell Avenue, West Haven, Connecticut. The proposed action is in accordance with the DVA's request to the U.S. Nuclear Regulatory Commission (NRC) on February 21, 2006 (ADAMS Accession No. ML060540225), to approve the release of the facility for unrestricted use, and is consistent with the current NRC policy to review all DVA permittee requests for the release of buildings for unrestricted use where radioactive materials with a half-life greater than 120 days were used. The DVA identified two isotopes of concern with half-lives greater than 120 days that it used in Research Building 27 of the West Haven, Connecticut facility: hydrogen-3 and carbon-14. The DVA was authorized by the NRC to use byproduct material for medical research at the West Haven Building 27 facility since it was renovated in 1973. Licensed materials were not used in outdoor areas.

The building is 2334 square feet of space comprised of medical research laboratories, office space, break room and bathroom, located in a hospital compound area. The walls were painted cinder block and the floors were concrete covered with vinyl flooring.

On January 5, 2006, the DVA ceased licensed activities and initiated facility surveys and decontamination. Based on the licensee's historical knowledge of the site and the conditions of the facility, the DVA determined that only routine decontamination activities, in accordance with their radiation safety procedures, were required. The DVA was not required to submit a decommissioning plan to the NRC. On February 21, 2006, the DVA requested that NRC approve the release of the facility for unrestricted use. The DVA conducted facility surveys and provided information to the NRC to demonstrate that the site meets the license termination criteria in Subpart E of 10 CFR Part 20 for unrestricted release.

Need for the Proposed Action

The licensee is requesting approval of the amendment to allow for the release of Building 27 for unrestricted use. The licensee needs this permit change because it no longer plans to conduct licensed activities in this building. NRC is fulfilling its responsibilities under the Atomic Energy Act to make a timely decision on a proposed permit amendment for release of a facility for unrestricted use that ensures protection of public health and safety and the environment.

Environmental Impacts of the Proposed Action

The NRC staff has reviewed the information provided and surveys performed by the DVA to demonstrate compliance with the 10 CFR 20.1402, “Radiological Criteria for Unrestricted Use” license termination criteria. Based on its review, the staff has determined that the affected environment and environmental impacts associated with the release for unrestricted use of the DVA facilities are bounded by the impacts evaluated by the “Generic Environmental Impact Statement in Support of Rulemaking on Radiological Criteria for License Termination of NRC-Licensed Nuclear Facilities” (NUREG-1496). The staff also finds that the proposed release for unrestricted use of the DVA facilities is in compliance with 10 CFR 20.1402. The NRC has found no other activities in the area that could result in cumulative impacts. Based on its review, the staff considered the impact of the residual radioactivity at the facility and concluded that the proposed action will not have a significant effect on the quality of the human environment.

Environmental Impacts of the Alternatives to the Proposed Action

Since the facility at the DVA site has already been surveyed and found acceptable for release for unrestricted use, the only alternative to the proposed action of approving the permit amendment and release of the West Haven facility for unrestricted use is denial of the proposed action (i.e. no action). Denial of the application would result in no change in current environmental impacts. The environmental impacts of the proposed action and the alternative action are similar, and the no-action alternative is accordingly not further considered.

Agencies and Persons Consulted

The NRC staff has determined that the proposed action is of a procedural nature, and will not affect listed species or critical habitat. Therefore, no further consultation is required under Section 7 of the Endangered Species Act. Likewise, the NRC staff have determined that the proposed action is not the type of activity that has the potential to cause effects on historic properties. Therefore, no further consultation is required under Section 106 of the National Historic Preservation Act.

NRC provided a draft of its Environmental Assessment to the Connecticut Department of Environmental Protection, Division of Radiation, for review on April 18, 2006. The State had no comments regarding the EA.

Conclusion

The NRC staff has concluded that the proposed action is consistent with the NRC's unrestricted release criteria specified in 10 CFR 20.1402. Because the proposed action will not significantly impact the quality of the human environment, the NRC staff concludes that the proposed action is the preferred alternative.

III. Finding of No Significant Impact

The staff has prepared the EA in support of the proposed amendment to the materials permit for the unrestricted release of the facility. The staff has found that the radiological environmental impacts from the proposed action are bounded by the impacts evaluated by NUREG-1496, Volumes 1-3, “Generic Environmental Impact Statement in Support of Rulemaking on Radiological Criteria for License Termination of NRC-Licensed Facilities” (ML042310492, ML042320379, and ML042330385). Additionally, no non-radiological or cumulative impacts were identified. On the basis of the EA, the NRC has concluded that there are no significant environmental impacts from the proposed action, and has determined not to prepare an environmental impact statement.

List of Preparers

William Snell, Senior Health Physicist, Division of Nuclear Materials Safety, Region III

Sources Used

1. NRC Byproduct Materials License Nos. 03-23853-01VA, 06-00092-05, and 06-11222-01, inspection and licensing records.

2. Historical Site Assessment and Final Status Survey Results for Building 27 of the DVA Connecticut Health Care System, provided under cover letter dated February 21, 2006.

3. Federal Register Notice, Volume 65, No. 114, page 37186, dated Tuesday, June 13, 2000, “Use of Screening Values to Demonstrate Compliance With The Federal Rule on Radiological Criteria for License Termination.”

4. Title 10 Code of Federal Regulations, Part 20, Subpart E, “Radiological Criteria for License Termination.”

5. Title 10, Code of Federal Regulations, Part 51, “Environmental Protection Regulations for Domestic Licensing and Related Regulatory Functions.”

6. NUREG-1496, “Generic Environmental Impact Statement in Support of Rulemaking on Radiological Criteria for License Termination of NRC-Licensed Nuclear Facilities.”

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. If you do not have access to ADAMS, or if there are problems in accessing the documents located in ADAMS, contact the NRC Public Document Room (PDR) Reference staff at 1-800-397-4209, 301-415-4737, or by email to pdr@nrc.gov. These documents may also be viewed electronically on the public computers located at the NRC's PDR, O 1 F21, One White Flint North, 11555 Rockville Pike, Rockville, MD 20852. The PDR reproduction contractor will copy documents for a fee.

The ADAMS accession numbers for the documents related to this Notice are:

1. E. Lynn McGuire, Department of Veterans Affairs, letter to U.S. Nuclear Regulatory Commission, February 21, 2006 (ADAMS Accession No. ML060540225).

Dated at Lisle, Illinois, this 10th day of May 2006.
For the Nuclear Regulatory Commission.
Jamnes L. Cameron,
Chief, Decommissioning Branch, Division of Nuclear Materials Safety, Region III.

[FR Doc. E6-7774 Filed 5-19-06; 8:45 am]

BILLING CODE 7590-01-P